DEPARTMENT OF THE TREASURY

Office of Foreign Assets Control

31 CFR Part 525

Publication of Determination Pursuant to Section 1(a)(i) of Executive Order 14014

AGENCY: Office of Foreign Assets Control, Treasury.

ACTION: Publication of determination.

SUMMARY: The Department of the Treasury's Office of Foreign Assets Control (OFAC) is publishing a sector determination issued pursuant to a February 10, 2021 Executive order. The determination was previously issued on OFAC's website.

DATES: The determination pursuant to section (1)(a)(i) of Executive Order 14014 was issued on, and took effect on, August 23, 2023.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: www.treas.gov/ofac.

Background

On February 10, 2021, the President, invoking the authority of, inter alia, the International Emergency Economic Powers Act (50 U.S.C. 1701 et seq.), issued Executive Order (E.O.) 14014 (86 FR 9429, February 12, 2021). Among other prohibitions, section 1(a) of E.O. 14014 blocks, with certain exceptions, all property and interests in property that are in the United States, that come within the United States, or that are or come within the possession or control of any U.S. person of, any foreign person determined by the Secretary of the Treasury, in consultation with the Secretary of State, to operate in the defense sector of the Burmese economy or any other sector of the Burmese economy as may be determined by the Secretary of the Treasury, in consultation with the Secretary of State. On June 1, 2021, OFAC issued the Burma Sanctions Regulations to implement E.O. 14014 (86 FR 29197).

On August 23, 2023, pursuant to delegated authority, the Director of OFAC, in consultation with the Department of State, determined that the prohibitions in section 1(a)(i) of E.O. 14014 shall apply to the jet fuel sector of the Burmese economy. This determination took effect on August 23, 2023. The text of the determination is below.

OFFICE OF FOREIGN ASSETS CONTROL

Determination Pursuant to Section 1(a)(i) of Executive Order 14014

Jet Fuel Sector of the Burmese Economy

Section 1(a)(i) of Executive Order (E.O.) 14014 of February 10, 2021 (“Blocking Property With Respect to the Situation in Burma”) imposes economic sanctions on any person determined by the Secretary of the Treasury, in consultation with the Secretary of State, to operate in such sectors of the Burmese economy as may be determined by the Secretary of the Treasury, in consultation with the Secretary of State.

To further address the unusual and extraordinary threat to the national security and foreign policy of the United States described in E.O. 14014, and in consultation with the Department of State and pursuant to 31 CFR 525.802, I hereby determine that section 1(a)(i) of E.O. 14014 shall apply to the jet fuel sector of the Burmese economy. Any person determined, pursuant to section 1(a)(i) of E.O. 14014, to operate in the jet fuel sector of the Burmese economy shall be subject to sanctions pursuant to section 1(a)(i).

This determination shall take effect on August 23, 2023.

Bradley T. Smith

Deputy Director

Office of Foreign Assets Control

August 23, 2023

Bradley T. Smith,
Director, Office of Foreign Assets Control.

[FR Doc. 2023-20713 Filed 9-22-23; 8:45 am]

BILLING CODE 4810-AL-P